DEPARTMENT OF COMMERCE

National Oceanic and Atmospheric Administration

[I.D. 080100B]

Northeast Region Permit Family of Forms

AGENCY: National Oceanic and Atmospheric Administration (NOAA).

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 6, 2000.

ADDRESSES: Direct all written comments to Linda Engelmeier, Departmental Forms Clearance Officer, Department of Commerce, Room 6086, 14th and Constitution Avenue NW, Washington, DC 20230 (or via Internet at lengelme@doc.gov).

FOR FURTHER INFORMATION CONTACT: Requests for additional information or copies of the information collection instruments(s) and instructions should be directed to Allison Ferreira, NMFS, 1 Blackburn Drive, Gloucester, MA 01930 (978-281-9103).

SUPPLEMENTARY INFORMATION:

I. Abstract

Any individual or organization participating in Federally-controlled fisheries is required to obtain permits. The purpose and use of permits is to: (1) Register fishermen, fishing vessels, fish dealers and processors, (2) list the characteristics of fishing vessels and/or dealer/processor operations, (3) exercise influence over compliance (e.g. withhold issuance pending collection of unpaid penalties), (4) provide a mailing list for the dissemination of important information to the industry, (5) register participants to be considered for limited entry, and (6) provide a universe for data collection samples. Identification of the participants, their gear types, vessels, and expected activity levels is an effective tool in the enforcement of fishery regulations. This information is needed to measure the consequences of management controls as well. Participants in certain fisheries may also to be required to notify NOAA before fishing trips for the purpose of observer placement and to make other reports on fishing activities.

II. Method of Collection

Initial permit applications are made by form. After initial permit issuance, a pre-printed permit renewal form is generated via computer using current permit information. This form is then sent to the permit holder for updating. If no changes to the pre-printed form are required, the applicant simply needs to sign the form and return it with any other information (i.e. current state registration or Coast Guard document) required for permit renewal.

Automated reporting by means of a vessel monitoring system (VMS) is required for all vessels issued a full-time or part-time limited access sea scallop permit, or issued an occasional limited access sea scallop permit when fishing under the Georges' Bank Exemption Program, or scallop vessels fishing under the small dredge program. All remaining limited access multispecies, monkfish, and scallop vessels are required to report via a call-in system. Vessel owners issued a limited access multispecies, monkfish, occasional scallop, or combination permit may voluntarily elect to use the VMS in place of the call-in system. This reporting is required in order to monitor: (1) Usage of days-at-sea allocations, (2) compliance with vessel layover requirements, (3) compliance with “days-out-of-the-fishery” requirements, (4) compliance with closed area regulations, and (5) compliance with exempted fishery regulations.

III. Data

OMB Number: 0648-0202.

Form Number: None.

Type of Review: Regular submission.

Affected Public: Businesses and other for-profit organizations; individuals or households; and State, Local or Tribal Governments.

Estimated Number of Respondents: 43,203.

Estimated Time Per Response: Preprinted renewal forms require an estimated 15 minutes to complete, while an initial application requires an estimated 30 minutes per response. In order to obtain an Atlantic Bluefish Vessel permit an applicant would need to complete a separate permit application, at an estimated response time of 30 minutes. Dealer permit applications take an estimated 5 minutes to complete. The vessel operator permit application is estimated to take an average of 1 hour to complete due to the color photograph submission requirement. Limited access vessel upgrade or replacement applications take approximately 3 hours to complete. Applications for retention of limited access permit history require an estimated 30 minutes. Applicants are expected to spend approximately 3 hours gathering and presenting the documentation needed for any limited access permit appeal.

Limited access multispecies, combination, occasional scallop, and monkfish vessels must notify NOAA via the call-in system of the start date and end date for each fishing trip. The estimated time per response is 2 minutes. It is estimated to take multispecies and monkfish vessels approximately 3 minutes to declare blocks of time out of the gillnet fishery. The burden of vessel monitoring for full-time and part-time limited access scallop vessels or authorized multispecies, combination and occasional scallop vessels is estimated to be 1 hour for installation of VMS unit, 5 minutes for verification of installation of the VMS unit, and 30 seconds per poll for automated polling of vessel position. Vessels required to have a fully functional VMS unit at all times may request to turn off the VMS (power down exemption) at approximately 30 minutes per request. Requests for observer coverage are estimated to require 2 minutes per request.

Limited access vessels fishing under DAS requirements that have assisted in Coast Guard search and rescue operations or assisted in towing a disabled vessel may apply for Good Samaritan credits at a burden of 30 minutes per applicant.

Owners or operators of vessels seeking to participate in the Cultivator shoal whiting, mid-water trawl, purse seine, Nantucket shoal dogfish, Southern New England (SNE) little tunny gillnet, or SNE cod landing limit exemption programs must request a letter of authorization from the Regional Administrator (letter of authorization). The estimated time required to request a letter of authorization is 5 minutes. Vessels fishing in the NAFO Regulatory Area that wish to be exempt from multispecies regulations while transiting the EEZ with multispecies on board, or landing multispecies in U.S. ports, must request a letter of authorization (5 minutes) in addition to possessing a valid High Seas Fishing Compliance permit under 50 CFR Part 300. A letter of authorization (5 minutes) is also required for permitted vessels intending to transfer selected species from one vessel to another as follows: Loligo and butterfish moratorium permit or Illex moratorium permit and vessels issued a mackerel or squid/butterfish incidental catch permit that intend to transfer Loligo, Illex or butterfish; vessels issued a multispecies or scallop permit that intend to transfer species other than regulated species; and multispecies vessels intending to transfer up to 500 lbs. of combined small-mesh multispecies per trip for use as bait.

Owners of charter/party vessels intending to fish in the Nantucket Lightship Closure Area must request a letter of authorization from the Regional Administrator, estimated to take 5 minutes. Vessels fishing under Charter/Party regulations in Gulf of Maine closed areas must obtain a Charter/Party Exemption Certificate for Gulf of Maine Closed Areas, at an estimated 2 minutes per request.

Owners of summer flounder vessels seeking to participate in the summer flounder small mesh exempted fishery must apply for a permit from the Regional Administrator, at an estimated 5 minutes per application. Vessels participating in the state waters winter flounder exemption must obtain a certificate approved by the Regional Administrator and issued by the state agency authorizing the vessel's participation in the exempted fishery. The request for such a certificate is estimated to take 2 minutes.

Limited access scallop vessels fishing under the scallop DAS program must request a letter of authorization, with an estimated burden of 5 minutes, in order to fish for scallops with trawl nets. Limited access sea scallop vessels wishing to participate in either the state waters DAS exemption program or the state waters gear exemption program must notify the Regional Administrator by VMS or call-in notification. Participants in the sea scallop state waters exemption programs using VMS notification must notify the Regional Administrator prior to the first trip in the exemption program and prior to the first planned trip in the EEZ, at an estimated 2 minutes per response. Participants in these exemption programs using the call-in system must notify the Regional Administrator at least 7 days prior to fishing under the exemption, at an estimated 2 minutes per call. If participants using the call-in system wish to withdraw from either state waters exemption program prior to the end of the 7-day designated exemption period requirement, they must also call the Regional Administrator to notify of early withdrawal, at an estimated 2 minutes per call.

Surf clam and ocean quahog vessel owners or operators are required to call the National Marine Fisheries Service (NMFS) Office of Law Enforcement nearest to the point of offloading prior to the departure of the vessel from the dock. It requires approximately 2 minutes for a vessel owner or operator to notify law enforcement of the vessels departure from the dock to fish for surf clams or ocean quahogs in the EEZ.

In the lobster fishery, initial lobster area designations are estimated to take 5 minutes; requests for additional tags are estimated to take 2 minutes; and notification of lost tags is estimated to take 3 minutes.

In the Northeast multispecies fishery, a request for change in permit category designation requires approximately 2 minutes, and a request for transit to another port by a vessel required to remain in the GOM cod trip limit takes 2 minutes. For vessels fishing under the GOM cod landing limit for the monkfish fishery, an area declaration is estimated to take 3 minutes.

In the gillnet fisheries for multispecies and monkfish, the burden estimate for calling out of the fishery is 3 minutes. Gillnet category designation, including initial requests for gillnet tags, requires approximately 10 minutes. Requests for additional tags require an estimated 2 minutes. Notification of lost tags and requests for replacement tag numbers also require an estimated 2 minutes. It will take approximately 1 minute to attach each gillnet tag.

Requests for state quota transfers in the bluefish, summer flounder and scup fisheries are estimated to require 1 hour.

Estimated Total Annual Burden Hours: 36,872.

Estimated Total Annual Cost to Public: $1,138,233.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 31, 2000.
Madeleine Clayton,
Management Analyst, Office of the Chief Information Officer.

[FR Doc. 00-19924 Filed 8-4-00; 8:45 am]

BILLING CODE 3510-22-P